DEPARTMENT OF AGRICULTURE

Commodity Credit Corporation

2008-Crop Marketing Assistance Loans and Loan Deficiency Payments for Cotton and Peanuts

AGENCY: Commodity Credit Corporation, USDA.

ACTION: Notice.

SUMMARY: As announced by this notice, the Commodity Credit Corporation (CCC) is implementing provisions of the Food, Conservation, and Energy Act of 2008 (2008 Farm Bill) regarding Marketing Assistance Loans (MAL) and Loan Deficiency Payments (LDP) for 2008 crop cotton and peanuts. The 2008 Farm Bill authorizes the continuation of the MAL and LDP programs for the 2008 through 2012 crops. This notice specifies how CCC will administer 2008 crop MAL and LDP provisions.

DATES: Effective Date: July 25, 2008

FOR FURTHER INFORMATION CONTACT: Candace Thompson, Director, Price Support Division, Farm Service Agency, USDA, STOP 0512, 1400 Independence Avenue, SW., Washington, DC 20250-0512; telephone: (202) 720-7901 or fax: (202) 690-3307; e-mail: candy.thompson@wdc.usda.gov. Persons with disabilities who require alternative means for communication (Braille, large print, audiotape, etc.) should contact the USDA Target Center at (202) 720-2600 (voice and TDD).

SUPPLEMENTARY INFORMATION: CCC administers a loan program, including MAL and LDP, that provides short-term financing to allow farmers to pay their bills soon after harvest and to facilitate orderly marketing throughout the rest of the year. The loan program also provides significant income support when market prices are below statutory loan rates. Currently, regulations in 7 CFR parts 1421, 1425, and 1427 cover MAL and LDP provisions for the 2002 through 2007 crop years.

The 2008 Farm Bill (Pub. L. 110-246) authorizes the continuation of MAL and LDP for cotton and peanuts for the 2008 through 2012 crops.

With the pending harvest of 2008-crop cotton and peanuts, this notice announces that CCC will, with the exceptions noted below, immediately implement MAL and LDP provisions for 2008-crop cotton and peanuts based on the regulations that applied to the 2007 crop and appeared in:

• 7 CFR part 1421, Grains and Similarly Handled Commodities—Marketing Assistance Loans and Loan Deficiency Payments for the 2002 through 2007 Crop Years;

• 7 CFR part 1425, Cooperative Marketing Associations; and

• 7 CFR part 1427, Cotton.

To address the 2008 exceptions and for the 2009 through 2012 crops, CCC will amend the applicable regulations to reflect changes required by the 2008 Farm Bill including the fine count adjustment, storage credit rates, and transportation costs. The 2008 exceptions are as follows. For cotton, the calculation of the prevailing world market price, for repayment purposes, will continue to be calculated as specified in the current regulations. Also, for cotton, storage payments will be allowed to the extent permitted in the current regulations. For peanuts, handling and storage costs will be allowed to the extent permitted in the current regulations. These three 2008 exceptions will be changed later to implement the requirements of the 2008 Farm Bill through rulemaking instead of being made effective now because the software development required to implement the changes is not immediately available.

Additionally, CCC revised regulations, effective on May 23, 2008 (73 FR 30274-30277, final rule published May 27, 2008) providing that Far East prices will be used instead of Northern Europe prices in determining the upland cotton adjusted world price (AWP). The revised AWP calculation applies to the 2007 through the 2012 crops of upland cotton.

Environmental Review

FSA has determined that these changes would not constitute a major Federal action that would significantly affect the quality of the human environment. Therefore, in accordance with the provisions of the National Environmental Policy Act (NEPA), 42 U.S.C. 4321-4347, the regulations of the Council on Environmental Quality (40 CFR parts 1500-1508), and FSA regulations for compliance with NEPA (7 CFR part 799), no environmental assessment or environmental impact statement will be prepared.

Signed at Washington, DC on July 21, 2008.
Teresa C. Lasseter,
Executive Vice President, Commodity Credit Corporation.

[FR Doc. E8-17001 Filed 7-24-08; 8:45 am]

BILLING CODE 3410-05-P